DEPARTMENT OF JUSTICE

Office of Juvenile Justice and Delinquency Prevention

[OJP(OJJDP)-1353]

Program Announcement for the Internet Crimes Against Children Task Force Program

AGENCY: Office of Juvenile Justice and Delinquency Prevention, Office of Justice Programs, Justice.

ACTION: Notice of solicitation.

SUMMARY: Based on the availability of appropriations, notice is hereby given that the Office of Juvenile Justice and Delinquency Prevention (OJJDP) is requesting applications from State and local law enforcement agencies interested in participating in the Internet Crimes Against Children (ICAC) Task Force Program. In an effort to expand ICAC Regional Task Force coverage to areas that do not have a current ICAC Regional Task Force presence, this solicitation is limited to State and local law enforcement agencies in the following States and localities: Georgia, Indiana, Kentucky, Louisiana, Missouri, and the Greater San Francisco Bay area, California. Only one grant will be awarded per State listed above. This program encourages communities to develop regional multidisciplinary, multijurisdictional task forces to prevent, interdict, and investigate sexual exploitation offenses committed by offenders who use online technology to victimize children.

DATES: Applications must be received by August 30, 2002.

ADDRESSES: All application packages must be mailed or delivered to the Office of Juvenile Justice and Delinquency Prevention, c/o Juvenile Justice Resource Center, 2277 Research Boulevard, Mail Stop 2K, Rockville, MD 20850; 301-519-5535. Faxed or e-mailed applications will not be accepted. (See “Delivery Instructions” below for additional information.) Interested applicants can obtain the OJJDP Application Kit from the Juvenile Justice Clearinghouse at 800-638-8736. The Application Kit is also available on OJJDP's Web site at www.ojjdp.ncjrs.org/grants/2000_app_kit/index.html. (See “Application Format” in this program announcement for instructions on application standards.)

FOR FURTHER INFORMATION CONTACT: Ron Laney, Director, Child Protection Division, and ICAC Program Manager, Office of Juvenile Justice and Delinquency Prevention, 202-616-3637. (This is not a toll-free number.)

SUPPLEMENTARY INFORMATION:

Purpose

The purpose of this program is to help State and local law enforcement agencies enhance their investigative response to offenders who use the Internet, online communication systems, or other computer technology to sexually exploit children. Throughout this program announcement, “Internet crimes against children” refers to the sexual exploitation of children that is facilitated by computers and includes crimes of child pornography and online solicitation for sexual purposes.

Background

Unlike some adults who view the benefits of the Information Age dubiously, children and teenagers have seized the Internet's educational and recreational opportunities with astonishing speed and casualness. Adapting information technology to meet everyday needs, young people are increasingly going online to meet friends, satisfy information needs, purchase goods and services, and complete school assignments. Currently, 28 million children and teenagers have access to the Internet, and industry experts predict that they will be joined by another 50 million globally by 2005. Although the Internet gives children and teenagers access to civilization's greatest museums, libraries, and universities, it also increases their risk of being sexually exploited or victimized.

Large numbers of young people are encountering sexual solicitations they did not want, sexual material they did not seek, and, in the most serious cases, are being targeted by offenders seeking children for sex. Research conducted by the University of New Hampshire revealed that one in five children between ages 10 and 17 received a sexual solicitation over the Internet in 1999. One in thirty-three received an aggressive solicitation from a solicitor who asked to meet them somewhere, called them on the telephone, or sent them mail, money, or gifts.

Cloaked in the anonymity of cyberspace, sex offenders can capitalize on the natural curiosity of children and seek victims with little risk of detection. Preferential sex offenders ¹ no longer need to lurk in parks and malls. Instead, they can roam from chat room to chat room, trolling for children susceptible to victimization. This alarming activity has grave implications for parents, teachers, and law enforcement officers because it circumvents conventional safeguards and provides sex offenders with virtually unlimited opportunities for unsupervised contact with children.

¹ For the purposes of this program, “preferential sex offenders” are defined as individuals whose primary sexual focus is children.

Today's Internet is also rapidly becoming the new marketplace for offenders seeking to acquire material for their child pornography collections. More insidious than the exchange of sexually explicit material among adults, child pornography depicts the sexual assault of children and is often used by child molesters to recruit, seduce, and control future victims. Pornography is used to break down inhibitions, validate sex between children and adults as normal, and control victims throughout their molestation. When offenders lose interest in their victims, pornography is often used as blackmail to ensure the child's silence; when posted on the Internet, pornography becomes an enduring and irretrievable record of victimization and a relentless violation of that child's privacy.

OJJDP recognizes that the increasing online presence of children, the proliferation of child pornography, and the lure of predators searching for unsupervised contact with underage victims present a significant threat to the health and safety of children and a formidable challenge for law enforcement today and into the foreseeable future. Many factors complicate law enforcement's response to these challenges. Conventional definitions of jurisdiction are practically meaningless in the electronic universe of cyberspace, and very few investigations begin and end within the same geographical area. Because they involve multiple jurisdictions, most investigations require close coordination and cooperation between Federal, State, and local law enforcement agencies.

Evidence collection in ICAC investigations invariably requires specialized expertise and equipment. Preferential sex offenders tend to be avid recordkeepers, and their computers, magnetic media, and related equipment can be rich sources of evidence. However, routine forensic examination procedures are insufficient for seizing, preserving, and analyzing this information. In addition, specific legal issues regarding property and privacy rights may be triggered by the seizure of computers and related technology.

Routine interviewing practices are inadequate for collecting testimonial evidence from child victims of Internet crimes. Some children deny they are victims because of embarrassment or fear of ridicule from their peers or discipline from their parents. Other victims bond with the offender, remain susceptible to further manipulation, or resent what they perceive as interference from law enforcement. Investigators who do not fully understand the dynamics of juvenile sexual exploitation risk losing critical information that could help convict perpetrators or identify additional victims. When appropriate, medical and psychological evaluations should be a part of law enforcement's response to cases involving child victims. In addition to ensuring that injuries or diseases related to the victimization are treated, forensic medical examinations provide crucial corroborative evidence.

These factors will almost routinely complicate the investigative process. Although no two cases raise identical issues of jurisdiction, evidence collection, and victim services, it is logical to presume that investigations characterized by a multijurisdictional, multidisciplinary approach will more likely result in successful prosecutions.

A variety of Federal activities are assisting and can further assist in law enforcement's response to these offenses. For example, the Innocent Images initiative, managed by the Federal Bureau of Investigation's (FBI's) Baltimore Field Division, works specifically on computer-facilitated child sexual exploitation cases. The U.S. Customs Service (USCS) and the U.S. Postal Inspection Service (USPIS) have successfully investigated hundreds of child pornography cases.

The Child Exploitation and Obscenity Section (CEOS) of the U.S. Department of Justice prosecutes Federal violations and offers advice and litigation support to Federal, State, and local prosecutors working on child pornography and sexual exploitation cases.

With support from OJJDP and private-sector funding, the National Center for Missing and Exploited Children (NCMEC) serves as the national resource center and clearinghouse for issues involving missing and exploited children. NCMEC's Training Division coordinates a comprehensive training and technical assistance program that includes prevention and awareness activities. The CyberTipline (http://missingkids.com) collects online reports from citizens and Internet Service Providers (ISPs) regarding the computer-facilitated sexual exploitation of children and rapidly forwards this information to the law enforcement agencies with investigative jurisdiction. Brought online in March 1998, the CyberTipline has provided law enforcement officers with information that has enabled them to both arrest individuals seeking sex with underage victims and safely recover and return children enticed from home by sex offenders.

NCMEC's law enforcement training and technical assistance program was developed in partnership with OJJDP, the FBI, USCS, USPIS, and CEOS. NCMEC has also developed an education and awareness campaign that features the Kids and Company curriculum, the Know the Rules teen awareness program, and two pamphlets (Child Safety on the Information Highway and Teen Safety on the Information Highway) that provide information about safe Internet practices for children and youth. These programs and materials are offered free of charge, and OJJDP encourages communities working on child victimization issues to use them. Additional information regarding NCMEC's services for children, parents, educators, and law enforcement officers can be obtained by calling 800-THE-LOST or by accessing NCMEC's Web site at http://www.missingkids.com.

Since fiscal year (FY) 1998, OJJDP has awarded funds to 30 State or local law enforcement agencies to develop regional multijurisdictional and multiagency task forces to prevent, interdict, and investigate ICAC offenses. The following jurisdictions currently receive ICAC Regional Task Force Program funding: Alabama Department of Public Safety; Bedford County, Virginia, Sheriff's Department; Broward County, Florida, Sheriff's Department; Clark County, Nevada, Las Vegas Metropolitan Police Department; Colorado Springs, Colorado, Police Department; Connecticut State Police; Cuyahoga County, Ohio, District Attorney; Dallas, Texas, Police Department; Delaware County, Pennsylvania, District Attorney; Hawaii Office of the Attorney General; Illinois State Police; Knoxville, Tennessee, Police Department; Maryland State Police; Massachusetts Department of Public Safety; Michigan State Police; Nebraska State Patrol; New York State Division of Criminal Justice Services; North Carolina Division of Criminal Investigation; Oklahoma State Bureau of Investigation; Phoenix, Arizona, Police Department; Portsmouth, New Hampshire, Police Department; Sacramento County, California, Sheriff's Office; Saint Paul, Minnesota, Police Department; San Diego, California, Police Department; Seattle, Washington, Police Department; Sedgewick County, Kansas, Sheriff's Office; South Carolina Office of the Attorney General; Utah Office of Attorney General; Wisconsin Department of Justice; and the Wyoming Division of Criminal Investigation. These agencies have become regional clusters of ICAC technical and investigative expertise and offer prevention and investigative services to children, parents, educators, law enforcement officers, and other individuals working on child sexual exploitation issues. Collectively, task force agencies have made more than 800 arrests, seized more than 900 computers, and provided forensic or investigative assistance in nearly 3,000 cases.

In the 21st century, law enforcement agencies will be increasingly challenged by sex offenders who use computer technology to victimize children. To help meet this challenge, OJJDP is continuing the ICAC Regional Task Force Program, which will competitively award cooperative agreements to State and local law enforcement agencies seeking to improve their investigative responses to the computer-facilitated sexual exploitation of children.

Program Strategy

The ICAC Task Force Program seeks to enhance the nationwide response to child victimization by maintaining and expanding a State and local law enforcement network composed of regional task forces. The program encourages communities to develop multijurisdictional and multiagency responses and provides funding to State and local law enforcement agencies to help them acquire the knowledge, personnel resources, and specialized equipment needed to prevent, interdict, or investigate ICAC offenses. Although the ICAC Task Force Program emphasizes law enforcement investigations, OJJDP encourages jurisdictions to include intervention, prevention, and victim services activities as part of their comprehensive approach.

OJJDP Program Management

During the past 3 years of managing the ICAC Task Force Program, OJJDP has made the following observations:

• The Internet challenges traditional thinking about law enforcement jurisdiction and renders city, county, and State boundaries virtually meaningless. Because of this jurisdictional ambiguity, offenders are often able to frustrate enforcement actions and conceal their criminal activities.

• Nearly all ICAC investigations (95 percent) involve substantial communication and coordination efforts among Federal, State, and local law enforcement agencies. Without meaningful case coordination, law enforcement agencies may inadvertently investigate identical suspects and organizations, target undercover operatives of other law enforcement agencies, or disrupt clandestine investigations of other agencies.

• The obvious need for interagency cooperation and coordination has sustained interest in maintaining standards for ICAC undercover investigations. Representatives from Federal, State, and local law enforcement agencies have repeatedly expressed concern about initiating investigations that are based on referrals from outside agencies—referrals that may be predicated on information acquired through inappropriate officer conduct or investigative techniques.

• The clandestine nature of undercover operations, the anonymity of Internet users, and the unclear jurisdictional boundaries of cyberspace significantly exacerbate these investigative concerns. Undercover operations, when executed and documented properly, collect virtually unassailable evidence regarding a suspect's predilection to sexually exploit children. These operations allow law enforcement agencies to go on the offensive and, most importantly, protect children from revictimization. Although carefully managed undercover operations by well-trained officers can be very effective, these operations also generate concerns regarding legal issues, coordination, communication, and resource management.

• Although Internet awareness appears to be growing, many children, teenagers, and parents are not sufficiently informed about the potential dangers and repercussions of releasing personal information to, or meeting with, individuals encountered online.

• Although Federal agencies are responsible for monitoring illegal interstate or telecommunications activities, the protection of children is primarily the responsibility of State and local law enforcement agencies. The production of pornography or the sexual assault of a child—whether originating online or not—usually creates both a jurisdictional interest and a responsibility for State and local authorities.

• Despite the belief that these cases are usually manufactured by undercover operations in which officers pose as minors in chat rooms, most ICAC investigations are initiated in response to a citizen complaint or a request from law enforcement. Unfortunately, these cases often involve multiple victims who require a response by both local law enforcement and victim services.

• The Internet is placing a new demand on forensic resources. Computers are piling up in evidence rooms across the country because existing forensic capacity is inadequate to meet the needs of investigative efforts.

• A generation ago, officers beginning their law enforcement careers would be issued a uniform, service weapon, and notebook. Those items rarely changed during a 20-year career. Today, changes in equipment and software occur seemingly overnight, and officers are hard pressed to stay current not only with the technological changes, but also with a motivated offender community that is adapting these new technologies to exploit children.

To address these observations and concerns, OJJDP's ICAC Task Force Program employs the following management strategies:

• Maintaining and expanding the nationwide network of State and local law enforcement agencies participating in the program.

• Ensuring that ICAC Task Force personnel are adequately trained and equipped.

• Establishing and/or maintaining ICAC Task Force investigative standards to facilitate interagency case referrals.

• Advocating coordination and collaboration among Federal, State, and local law enforcement agencies investigating ICAC offenses.

• Fostering meaningful information sharing to avoid redundant investigations or activities that could disrupt the ongoing investigations of other agencies.

• Maintaining an ICAC Task Force Board composed of local law enforcement executives and prosecutors to advise OJJDP, formulate policy recommendations, and assess the law enforcement community's needs for training and technical assistance with regard to investigating Internet crimes.

• Convening an annual ICAC Task Force training conference to focus on child exploitation, emerging technology, and its relevance to criminal activity and enforcement efforts and to enhance the networking essential for sustaining an effective State and local law enforcement response to online crime.

OJJDP established ICAC Task Force Program Standards through a collaborative process involving the 10 original ICAC Task Force agencies, the FBI, NCMEC, USCS, USPIS, CEOS, and the Executive Office for United States Attorneys. The standards were designed by the Task Force agencies to foster information sharing, coordinate investigations, ensure the probative quality of undercover operations, and facilitate interagency case referrals by standardizing investigative practices. In 2002, the ICAC standards were revised and updated to reflect 20 additional ICAC Regional Task Forces and an expanded ICAC program focus on the protection of children.

OJJDP has also established an ICAC Task Force Board (the Board) to assist in the administration of the ICAC Task Force Program. As a condition of the award, each grantee must designate a policy-level law enforcement official or prosecutor to be a Board member. Although the Board's primary responsibility is to serve as an advisory group to OJJDP, the Board will also encourage case coordination and facilitate information sharing on trends, innovative investigative techniques, and prosecution strategies. Technical advice is provided to the Board by NCMEC, CEOS, the FBI, USCS, and USPIS.

The award also requires that each ICAC Regional Task Force member send at least one investigator and one policy-level official to an ICAC Task Force Program orientation seminar. The seminars, which were developed by OJJDP and NCMEC in consultation with Federal law enforcement agencies, provide information regarding legal issues, specific investigative techniques, undercover operation documentation requirements, behavioral characteristics of preferential sex offenders, and other topics relevant to child exploitation cases.

To learn about the next seminar scheduled at NCMEC's Jimmy Ryce Law Enforcement Training Center in Alexandria, VA, contact NCMEC at http://www.missingkids.com. Expenses associated with attendance at the orientation seminar will be reimbursed by OJJDP and NCMEC. Expenses associated with Board responsibilities will be covered by grant funds.

Goal

The program's goal is to enhance the ICAC investigative response of State and local law enforcement agencies.

Objectives

Projects must accomplish the following objectives:

• Develop or expand multiagency, multijurisdictional task forces that include, but are not limited to, representatives from law enforcement, prosecution, victim services, and child protective services agencies. Relevant nongovernment organizations may also be included. OJJDP encourages applicants to invite Federal law enforcement agencies to participate in the task force.

• Institute policies and procedures that comply with the OJJDP ICAC Task Force Program Standards (see “OJJDP Program Management” above). Requests from eligible law enforcement agencies for copies of the ICAC Program Operational and Investigative Standards must be faxed on official letterhead to the Juvenile Justice Clearinghouse at 301-519-5600.

• Enhance investigative capacity by properly equipping and training ICAC Task Force investigators. Task Force investigators should be computer literate, knowledgeable about child exploitation issues, and familiar with Federal and State statutes and caselaw pertaining to ICAC investigations.

• Develop and maintain case management systems to record offenses and investigative results, make or receive outside agency referrals of ICAC cases, and comply with the reporting requirements of the ICAC Task Force Monthly Performance Measures Report.

• Develop response protocols or memorandums of understanding that foster collaboration, information sharing, and service integration among public and private organizations that provide services to sexually exploited children.

Eligibility Requirements

Applicants must be State and/or local law enforcement agencies located in Georgia, Indiana, Kentucky, Louisiana, Missouri, or the Greater San Francisco Bay area, California. Joint applications from two or more eligible applicants are welcome; however, one applicant must be clearly designated as the primary applicant (for correspondence, award, and management purposes) and the other(s) designated as coapplicant(s).

Selection Criteria

OJJDP is committed to establishing a network of State and local law enforcement agencies to respond to online enticement and child pornography offenses. Within this network, ICAC Task Forces positioned throughout the country will serve as regional sources of technical, educational, and investigative expertise, providing assistance to parents, teachers, law enforcement officers, and other professionals working on child sexual exploitation issues. Therefore, the goal of achieving an equitable geographic distribution of ICAC Task Forces will be considered when applicants are selected. Successful applicants will be expected to serve as regional clusters of ICAC technical and investigative expertise, collaborate with existing ICAC Task Forces, and become part of a nationwide law enforcement network designed to protect children from computer-facilitated victimization.

Applications should include evidence of multidisciplinary, multijurisdictional partnerships among public agencies, private organizations, community-based groups, and prosecutors' offices. Successful applicants will develop or enhance an investigative ICAC response that includes prevention, education, and victim services activities.

OJJDP will convene a peer review panel to evaluate and rank applications and to make funding recommendations to the OJJDP Administrator. Although peer review recommendations are given weight, they are advisory only. Final award decisions will be made by the OJJDP Administrator. OJJDP will negotiate the specific terms of the award with applicants who are being considered. Applicants will be evaluated and rated according to the criteria outlined below.

Problem(s) To Be Addressed (10 points)

Applicants must clearly identify the need for this project in their communities and demonstrate an understanding of the program concept. Applicants must include data that illustrate the size and scope of the problem in their States and local jurisdictions. If statistics or other research findings are used to support a statement or position, applicants must provide the relevant source information.

Goals and Objectives (10 points)

Applicants must establish clearly defined, measurable, and attainable goals and objectives for this program.

Project Design (35 points)

Applicants must explain in clear terms how the State or local task force will be developed and implemented. They must present a clear workplan that contains program elements directly linked to the achievement of the project objectives. The workplan must indicate significant project milestones, product due dates, and the nature of the products to be delivered.

Management and Organizational Capability (30 points)

The management structure and staffing described in the application must be adequate and appropriate for the successful implementation of the project. Applicants must identify responsible individuals and their time commitments and provide a schedule of major tasks and milestones. Applicants must describe how activities that prevent Internet crimes against children will be continued after Federal funding is no longer available. In addition, signed letters of support from State and local prosecution offices and the local district United States Attorney must be provided.

Budget (15 points)

Applicants must provide a proposed budget that is complete, detailed, reasonable, allowable, and cost effective in relation to the activities to be undertaken. Budgets must allow for required travel, including four trips for one individual to attend the quarterly ICAC Task Force Board meetings. Budgets must also allow for the participation of at least two agency representatives at the annual ICAC Training Conference.

Application Format

The narrative portion of this application (excluding forms, assurances, and appendixes) must not exceed 35 pages and must be submitted on 8½- by 11-inch paper and double spaced on one side in a standard 12-point font. The double-spacing requirement applies to all parts of the program narrative and project abstract, including any lists, tables, bulleted items, or quotations. These standards are necessary to maintain fair and uniform consideration among all applicants. If the narrative and abstract do not conform to these standards, OJJDP will deem the application ineligible for consideration.

Project and Award Period

These cooperative agreements will be funded for up to an 18-month budget and project period and will begin July 1, 2002, and end December 31, 2003. Funding beyond the initial project period will be contingent upon the grantee's performance and the availability of funds.

Award Amount

The total amount available for this program is $1.8 million. OJJDP intends to award six cooperative agreements of up to $300,000 each for the 18-month project period.

Performance Measurement

To ensure compliance with the Government Performance and Results Act (GPRA), Public Law 103-62, this solicitation notifies applicants that they are required to collect and report on data that measure the results of the program implemented by this grant. To ensure the accountability of this data (for which the Office of Justice Programs [OJP] is responsible) the following performance measures are provided:

• The number of technical assistance activities involving investigations.

• The number of computer forensic services provided by ICAC Task Forces and Investigative Satellites to nonfederally funded law enforcement agencies.

• The number of members and organizations involved in multidisciplinary task forces at each site.

Under this solicitation, applicants will be required to supply OJJDP with the above performance information. In addition, OJJDP will measure the performance of the ICAC Task Force Program. Data collection will be covered within the existing ICAC Monthly Performance Report (MPR) forms. MPR is a required data-reporting document that was created by OJJDP to collect ICAC data related to arrests, subpoenas, search warrants, technical assistance (investigative and computer forensic), and prevention and intervention activities performed by ICAC Regional Task Forces and ICAC Investigative Satellites. Data gathered from MPRs will track the number of arrests made and the outcomes of those arrests (plea bargains, prosecutions, etc.), assist in the identification of victims who need resources such as counseling and therapy, and track tips and aid in target area identification.

Data collected from MPRs will provide crucial baseline data necessary for a future evaluation of the ICAC Task Force Program after it has been fully established throughout the country.

Assistance in obtaining this information will facilitate future program planning and will allow OJP to provide Congress with measurable program results of federally funded programs.

Catalog of Federal Domestic Assistance (CFDA) Number

For this program, the CFDA number, which is required on Standard Form 424, Application for Federal Assistance, is 16.543. This form is included in OJJDP's Application Kit, which can be obtained by calling the Juvenile Justice Clearinghouse at 800-638-8736 or sending an e-mail request to askncjrs@ncjrs.org. The kit is also available online at ojjdp.ncjrs.org.

Coordination of Federal Efforts

To encourage better coordination among Federal agencies in addressing State and local needs, the U.S. Department of Justice requests that applicants provide information on the following: (1) Active Federal grant award(s) supporting this or related efforts, including awards from the U.S. Department of Justice; (2) any pending application(s) for Federal funds for this or related efforts; and (3) plans for coordinating any funds described in items (1) or (2) with the funding sought by this application. For each Federal award, applicants must include the program or project title, the Federal grantor agency, the amount of the award, and a brief description of its purpose.

“Related efforts” is defined for these purposes as one of the following:

• Efforts for the same purpose (i.e., the proposed award would supplement, expand, complement, or continue activities funded with other Federal grants).

• Another phase or component of the same program or project (e.g., to implement a planning effort funded by other Federal funds or to provide a substance abuse treatment or education component within a criminal justice project).

• Services of some kind (e.g., technical assistance, research, or evaluation) rendered to the program or project described in the application.

Delivery Instructions

All applicants must submit the original application (signed in blue ink) and five copies. Applications should be unbound and fastened by a binder clip in the top left-hand corner.

OJJDP strongly recommends that applicants number each page of the application. To ensure that applications are received by the due date, applicants should use a mail service that documents the date of receipt. Because OJJDP anticipates sending applicants written notification of application receipt approximately 4 weeks after the solicitation closing date, applicants are encouraged to use a traceable shipping method. Faxed or e-mailed applications will not be accepted. Postmark dates will not be accepted as proof of meeting the deadline. Applications received after [XXXX] will be deemed late and may not be accepted. The closing date and time apply to all applications. To ensure prompt delivery, please adhere to the following guidelines:

Applications Sent by U.S. Mail

Use registered mail to send applications to the following address: Office of Juvenile Justice and Delinquency Prevention, c/o Juvenile Justice Resource Center, 2277 Research Boulevard, Mail Stop 2K, Rockville, MD 20850. In the lower left-hand corner of the envelope, clearly write “Internet Crimes Against Children Task Force Program.”

Applications Sent by Overnight Delivery Service

Allow at least 48 hours for delivery. Send applications to the following address: Office of Juvenile Justice and Delinquency Prevention, c/o Juvenile Justice Resource Center, 2277 Research Boulevard, Mail Stop 2K, Rockville, MD 20850; 800-638-8736 (phone number required by some carriers). In the lower left-hand corner of the envelope, clearly write “Internet Crimes Against Children Task Force Program.”

Applications Delivered by Hand

Deliver by [XXXXX] to the Juvenile Justice Resource Center, 2277 Research Boulevard, Rockville, MD 20850; 301-519-5535. Hand deliveries will be accepted daily between 8:30 a.m. and 5:00 p.m. EST, excluding Saturdays, Sundays, and Federal holidays. Entrance to the resource center requires proper photo identification.

Due Date

Applicants are responsible for ensuring that the original and five copies of the application package are received by 5 p.m. EDT on August 30, 2002.

Contact

For further information, contact Ron Laney, Director, Child Protection Division, and ICAC Program Manager, Office of Juvenile Justice and Delinquency Prevention, 202-616-3637, or send an e-mail inquiry to laney@ojp.usdoj.gov.

Bibliography

Burgess, A., and Grant, C. 1988. Children Traumatized in Sex Rings. Alexandria, VA: National Center for Missing and Exploited Children.

Cage, R., and Pence, D. 1997. Criminal Investigation of Child Sexual Abuse. Portable Guide. Washington, DC: U.S. Department of Justice, Office of Justice Programs, Office of Juvenile Justice and Delinquency Prevention.

Dressler, K. 1997. Multijurisdictional Task Forces: Ten Years of Research and Evaluation: A Report to the Attorney General. Washington, DC: U.S. Department of Justice, Office of Justice Programs, Bureau of Justice Assistance.

Finkelhor, D., Mitchell, K., and Wolak, J. 2000. Online Victimization: A Report on the Nation's Youth. Alexandria, VA: National Center for Missing and Exploited Children.

Hammerschlag, M. 1996. Sexually Transmitted Diseases and Child Sexual Abuse. Portable Guide. Washington, DC: U.S. Department of Justice, Office of Justice Programs, Office of Juvenile Justice and Delinquency Prevention.

Lanning, K. 1992. Child Molesters: A Behavioral Analysis for Law Enforcement Officers Investigating Cases of Child Sexual Exploitation. Alexandria, VA: National Center for Missing and Exploited Children.

Lanning, K. 1992. Child Sex Rings: A Behavioral Analysis for Criminal Justice Professionals Handling Cases of Child Sexual Exploitation. Alexandria, VA: National Center for Missing and Exploited Children.

Lanning, K., and Farley, R. 1997. Understanding and Investigating Child Sexual Exploitation. Portable Guide. Washington, DC: U.S. Department of Justice, Office of Justice Programs, Office of Juvenile Justice and Delinquency Prevention.

Magid, L. 1994. Child Safety on the Information Highway. Pamphlet. Alexandria, VA: National Center for Missing and Exploited Children.

Magid, L. 1998. Teen Safety on the Information Highway. Pamphlet. Alexandria, VA: National Center for Missing and Exploited Children.

National Center for Missing and Exploited Children. 1998. Know the Rules. Pamphlet. Alexandria, VA: National Center for Missing and Exploited Children.

Quarantiello, L. 1997. Cyber Crime: How to Protect Yourself from Computer Criminals. Lake Geneva, WI: Tiare Publications.

Rosenblatt, K. 1995. High-Technology Crime: Investigating Cases Involving Computers. San Jose, CA: KSK Publications.

Saywitz, K., and Faller, K. 1997. Interviewing Child Witnesses and Victims of Sexual Abuse. Portable Guide. Washington, DC: U.S. Department of Justice, Office of Justice Programs, Office of Juvenile Justice and Delinquency Prevention.

Whitcomb, D. 1995. Child Sexual Exploitation: Improving Investigations and Protecting Victims: A Blueprint for Action. Washington, DC: U.S. Department of Justice, Office of Justice Programs, Office for Victims of Crime.

Dated: July 11, 2002.
J. Robert Flores,
Administrator, Office of Juvenile Justice and Delinquency Prevention.

[FR Doc. 02-17842 Filed 7-15-02; 8:45 am]

BILLING CODE 4410-18-P